DEPARTMENT OF COMMERCE

National Oceanic and Atmospheric Administration

[I.D. 061906B]

Endangered Species; File No. 1538

AGENCY: National Marine Fisheries Service (NMFS), National Oceanic and Atmospheric Administration (NOAA), Commerce.

ACTION: Notice; issuance of permit.

SUMMARY: Notice is hereby given that NMFS, Southeast Fisheries Science Center (SEFSC), 75 Virginia Beach Drive, Miami, Florida 33149 has been issued a permit to take smalltooth sawfish (Pristis pectinata) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Patrick Opay or Jennifer Skidmore, (301)713-2289.

SUPPLEMENTARY INFORMATION: On August 10, 2005, notice was published in the Federal Register (70 FR 46492) that a request for a scientific research permit to take smalltooth sawfish had been submitted by the above-named organization. The requested permit has been issued under the authority of the Endangered Species Act of 1973, as amended (ESA; 16 U.S.C. 1531 et seq.) and the regulations governing the taking, importing, and exporting of endangered and threatened species (50 CFR parts 222-226).

Researchers will annually capture up to 5 smalltooth sawfish using bottom longline gear. Animals will be sexed, measured, biopsy sampled, photographed, external dart tagged, and tagged with a pop-up satellite archival tag. The research will provide information on the survival rates of smalltooth sawfish captured and released from commercial fishing gear; habitat for adult sawfish; and daily and seasonal movement patterns and migration corridors that could aid management efforts in reducing further fishery interactions. The research will be concentrated in areas offshore of the Marquesas Keys, Florida Keys, and south of the Florida Keys in the Florida straights outside of Florida state waters. The permit is issued for 5 years.

Issuance of this permit, as required by the ESA, was based on a finding that such permit (1) was applied for in good faith, (2) will not operate to the disadvantage of any endangered or threatened species, and (3) is consistent with the purposes and policies set forth in section 2 of the ESA.

Dated: June 27, 2006.
P. Michael Payne,
Chief, Permits, Conservation and Education Division, Office of Protected Resources, National Marine Fisheries Service.

[FR Doc. E6-10464 Filed 7-3-06; 8:45 am]

BILLING CODE 3510-22-S